DEPARTMENT OF HEALTH AND HUMAN SERVICES

Centers for Medicare & Medicaid Services

[Document Identifier: CMS-10165]

Agency Information Collection Activities: Submission for OMB Review; Comment Request; Retraction

ACTION: Notice, retraction.

SUMMARY: On Friday, March 6, 2009 (74 FR 9820), the Centers for Medicare & Medicaid Services (CMS) published a Notice document titled “Agency Information Collection Activities; Proposed Collection; Comment Request”. That notice invited public comments on one information collection. Through the publication of this document, CMS is retracting that notice requesting public comment on the Information Collection Requirement titled “Electronic Health Records (EHR) Demonstration Web Enabled Application for Phase II”, form number CMS-10165 (OMB #0938-0965).

Dated: April 10, 2009.
Michelle Shortt,
Director, Regulations Development Group, Office of Strategic Operations and Regulatory Affairs.

[FR Doc. E9-8781 Filed 4-16-09; 8:45 am]

BILLING CODE 4120-01-P